DEPARTMENT OF TRANSPORTATION

Noise Exposure Map Notice, Portland International Airport, Portland, OR

AGENCY: Federal Aviation Administration, DOT.

ACTION: Notice.

SUMMARY: The Federal Aviation Administration (FAA) announces its determination that the noise exposure maps submitted by Port of Portland for Portland International Airport under the provisions of 49 U.S.C. 47501 et seq. (Aviation Safety and Noise Abatement Act) and 14 CFR part 150 are in compliance with applicable requirements.

DATES: Effective Date: The effective date of the FAA's determination on the noise exposure maps is July 21, 2010.

FOR FURTHER INFORMATION CONTACT: Cayla Morgan, Federal Aviation Administration, Airports Division, 1601 Lind Avenue, SW., Renton, WA 98057-3356, telephone (425) 227-2653.

SUPPLEMENTARY INFORMATION: This notice announces that the FAA finds that the noise exposure maps submitted for Portland International Airport are in compliance with the applicable requirements of part 150, effective July 20, 2010. Under 49 U.S.C. section 47503 of the Aviation Safety and Noise Abatement Act (hereinafter referred to as “the Act”), an airport operator may submit to the FAA noise exposure maps which meet applicable regulations and which depict non-compatible land uses as of the date of submission of such maps, a description of projected aircraft operations and the ways in which such operations will affect such maps. The Act requires such maps to be developed in consultation with interested parties in the local community, government agencies, and persons using the airport. An airport operator who has submitted noise exposure maps that are found by the FAA to be in compliance with the requirements of Federal Aviation Regulations (FAR) part 150, promulgated pursuant to the Act, may submit a noise compatibility program for the FAA approval which sets forth the measures the operator has taken or proposes to take to reduce the existing non-compatible uses and prevent the introduction of additional non-compatible uses.

The FAA has completed its review of the noise exposure maps and accompanying documentation submitted by Port of Portland for Portland International Airport. The documentation that constitutes the “noise exposure maps” as defined in section 150.7 of Part 150 includes the following from the July, 2010, FAR Part 150 Noise Exposure Map Update, Portland International Airport:

• Existing 2008 Noise Exposure Map

• Future 2017 Noise Exposure Map

• Table 2-1, Average Daily Aircraft Operations by Type, Time of Day, and Stage Length, 2008

• Table 2-2, Average Daily Aircraft Operations by Type, Time of Day, and Stage Length, 2017

• Table 2-3, Runway Use Summary—2008

• Table 2-4, Runway Use Summary—2017

• Figure 2-1, Noise Exposure Map depicting estimated population, residential units and acres within DNL 65, 70 and 75 noise contours, 2008

• Figure 2-2, Noise Exposure Map depicting estimated population, residential units and acres within DNL 65,70 and 75 noise contours, 2017

• There are no properties on or eligible for inclusion in the National Register of Historic Places within the 65 DNL contour

• Appendix B—Evidence of Public and Stakeholder Involvement

• Appendix C—Flight Track Data

The FAA has determined that these noise exposure maps and accompanying documentation are in compliance with the applicable requirements. This determination is effective July 21, 2010.

FAA's determination of an airport operator's noise exposure maps is limited to a finding that the maps were developed in accordance with the procedures contained in appendix A of FAR Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties should be covered by the provisions of section 47506 of the Act. These functions are inseparable from the ultimate land use control and planning responsibilities of local government. These local responsibilities are not changed in any way under Part 150 or through FAA's review of noise exposure maps. Therefore, the responsibility for detailed overlaying of the noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the full noise exposure map documentation and of the FAA's evaluation of the maps are available for examination at the following locations:

Federal Aviation Administration, Seattle Airports District Office, 1601 Lind Avenue, SW., Renton, Washington.

Port of Portland, Portland International Airport, 7200 N.E. Airport Way, Portland, Oregon 97218.

Questions may be directed to the individual names above under the heading FOR FURTHER INFORMATION CONTACT.

Issued in Renton, Washington, July 21, 2010.
Carolyn T. Read,
Acting Manager, Airports Division, Northwest Mountain Region.

[FR Doc. 2010-18478 Filed 7-27-10; 8:45 am]

BILLING CODE 4910-13-P